DEPARTMENT OF ENERGY

Federal Energy Regulatory Commission

[Docket No. CP22-51-000]

CNG Holding 1 LLC; Notice of Petition for Declaratory Order

Take notice that on February 11, 2022, pursuant to Rule 207(a)(2) of the Federal Energy Regulatory Commission's (Commission) Rules of Practice and Procedure, CNG HOLDING 1 LLC (CNG Holding) filed a petition for declaratory order requesting the Commission issue an order stating that CNG Holding's: (1) Proposed compressed natural gas (CNG) production facility; (2) the docks from which CNG Holding will export the CNG; and (3) CNG Holding's proposal to construct an on-site truck fueling station, a bunkering pipeline to transport end-use fuel to vessels, and provide an industrial fueling service to industrial customers in Louisiana are not subject to the Commission's jurisdiction under section 3 or section 7 of the Natural Gas Act, 15 U.S.C. 717b, 717f (2018).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Comment Date: 5:00 p.m. Eastern time on March 14, 2022.

Dated: February 17, 2022.
Debbie-Anne A. Reese,
Deputy Secretary.

[FR Doc. 2022-03910 Filed 2-23-22; 8:45 am]

BILLING CODE 6717-01-P